DEPARTMENT OF HOMELAND SECURITY

Federal Emergency Management Agency

[Docket ID: FEMA-2009-0001]

Agency Information Collection Activities: Submission for OMB Review; Comment Request, OMB No. 1660-0017; Public Assistance Program

AGENCY: Federal Emergency Management Agency, DHS.

ACTION: Notice; 30-day notice and request for comments; revision of a currently approved information collection; OMB No. 1660-0017; Public Assistance Program; FEMA Form 90-49, Request for Public Assistance; FEMA Form 90-91, Project Worksheet (PW); FEMA Form 90-91A, Project Worksheet—Damage Description and Scope of Work Continuation Sheet; FEMA Form 90-91B, Project Worksheet—Cost Estimate Continuation Sheet; FEMA Form 90-91C Project Worksheet—Maps and Sketches Sheet; FEMA Form 90-91D, Project Worksheet—Photo Sheet; FEMA Form 90-120, Special Considerations Questions; FEMA Form 121, PNP Facility Questionnaire; FEMA Form 90-123, Force Account Labor Summary Record; FEMA Form 90-124, Materials Summary Record; FEMA Form 90-125, Rented Equipment Summary Record; FEMA Form 90-126, Contract Work Summary Record; FEMA Form 90-127, Force Account Equipment Summary Record; and FEMA Form 90-128, Applicant's Benefits Calculation Worksheet.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before March 10, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: Public Assistance Program.

Type of information collection: Revision of a currently approved information collection.

OMB Number: 1660-0017.

Form Titles and Numbers: FEMA Form 90-49, Request for Public Assistance; FEMA Form 90-91, Project Worksheet (PW); FEMA Form 90-91A, Project Worksheet—Damage Description and Scope of Work Continuation Sheet; FEMA Form 90-91B, Project Worksheet—Cost Estimate Continuation Sheet; FEMA Form 90-91C Project Worksheet—Maps and Sketches Sheet; FEMA Form 90-91D, Project Worksheet—Photo Sheet; FEMA Form 90-120, Special Considerations Questions; FEMA Form 121, PNP Facility Questionnaire; FEMA Form 90-123, Force Account Labor Summary Record; FEMA Form 90-124, Materials Summary Record; FEMA Form 90-125, Rented Equipment Summary Record; FEMA Form 90-126, Contract Work Summary Record; FEMA Form 90-127, Force Account Equipment Summary Record; and FEMA Form 90-128, Applicant's Benefits Calculation Worksheet.

Abstract: The information collected is utilized by FEMA to make determinations for Public Assistance payments based on the information supplied by the respondents. The following listing provides the instances of information sharing and how the individual collection instruments provide necessary information for Public Assistance considerations. FEMA Form 90-49 identifies the applicant and initiates the request. FEMA Forms 90-91A, B, C and D identifies the scope of the work and cost estimates. FEMA Form 90-120 records factors that could affect the scope of the work. FEMA Form 90-121 is used to determine private non-profit applicant eligibility. FEMA Form 90-123 identifies employees from the applicant's own workforce who perform related work, and FEMA form 90-124 identifies materials of the applicant used on the project. FEMA Form 90-125 provides a list of materials rented for the project, FEMA Form 90-126 identifies contract costs for the project, FEMA Form 90-127 records the applicant's equipment costs and FEMA Form 90-128 provides the applicant's benefit costs for the project. The request for appeals, both first and second, and well as the arbitration requests allow for the applicant to request a review of determinations made.

Affected Public: State, Local or Tribal Government.

Estimated Number of Respondents: 56.

Frequency of Response: On Occasion.

Estimated Average Hour Burden per Respondent: 2,992 Hours.

Estimated Total Annual Burden Hours: 167,554.

Estimated Cost: There are no operation, maintenance, capital or start-up costs associated with this collection.

Dated: January 28, 2010.
Larry Gray,
Director, Office of Records Management, Office of Management, Federal Emergency Management Agency, Department of Homeland Security.

[FR Doc. 2010-2619 Filed 2-5-10; 8:45 am]

BILLING CODE 9111-23-P